DEPARTMENT OF HEALTH AND HUMAN SERVICES

Centers for Disease Control and Prevention

[60Day-08-0212]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Hospital Discharge Survey—Revision—The National Hospital Discharge Survey (NHDS) (OMB# 0920-0212), National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes the data collection in 2008 and 2009 using the current NHDS design; a pretest of a new design; and data collection for 2010 and 2011 of the survey using the new design.

Current NHDS

The National Hospital Discharge Survey (NHDS) has been conducted continuously by the National Center for Health Statistics, CDC, since 1965. It is the principal source of data on inpatient utilization of short-stay, non-Federal hospitals and is the principal annual source of nationally representative estimates on the characteristics of discharges, the lengths of stay, diagnoses, surgical and non-surgical procedures, and the patterns of use of care in hospitals in various regions of the country. It is the benchmark against which special programmatic data sources are measured. The data items collected are the basic core of the variables contained in the Uniform Hospital Discharge Data Set (UHDDS) in addition to several variables (admission source and type, admitting diagnosis and present on admission indicators) which are identical to those needed for billing of inpatient services for Medicare patients. In the current survey, data are obtained in one of three ways: Abstracted by hospital staff; abstracted by Bureau of the Census Staff under an interagency agreement; and provided in electronic format. Due to budgetary constraints, the number of hospitals and the number of discharges for the 2008 and 2009 NHDS data collections will decrease by approximately 50% from previous years.

Redesigned NHDS

Although the current NHDS is still fulfilling its intended functions, it is based on concepts from the health care delivery system, as well as the hospital and patient universes, of previous decades. It has become clear that a redesign of the NHDS that provides greater depth of information is necessary.

In 2008, a sample of 40 hospitals will be selected for a pretest. These hospitals will not be a probability sample, but instead will be intentionally selected to include hospitals of differing size, location and other characteristics related to their service and patient clientele.

In 2010, a redesigned NHDS will be implemented and will consist of a completely new sample of approximately 240 hospitals. The redesigned NHDS will use a modified two stage design. The first stage sampling will be hospitals. The second stage of sampling will be discharges. A stratified, random sample of 120 discharges is targeted within each hospital. In the redesigned survey all data will be abstracted by trained health care staff under contract. All data will be obtained from hospital records and charts and computer systems.

The current data items will be collected with significant additional details. Patient level data items to be collected include personal identifiers such as Social Security number, name and medical record number; clinical laboratory results such as hematocrit and white blood cell count; and financial billing and record data. The survey includes detailed questions for three modules: Acute myocardial infarction; infectious disease; and end of life issues. Facility level data items include demographic information, clinical capabilities, and financial information.

Users of NHDS data include, but are not limited to the CDC; the Congressional Research Office; the Office of the Assistant Secretary for Planning and Evaluation (ASPE); American Health Care Association, Centers for Medicare and Medicaid Services (CMS), and Bureau of the Census. Data collected through the NHDS are essential for evaluating health status of the population, for the planning of programs and policy to elevate the health status of the Nation, for studying morbidity trends, and for research activities in the health field. NHDS data have been used extensively in the development and monitoring of goals for the Year 2000 and 2010 Healthy People Objectives. In addition, NHDS data provide annual updates for numerous tables in the Congressionally-mandated NCHS report, Health, United States. Other users of these data include universities, contract research organizations, many in the private sector, foundations, and a variety of users in the print media. There is no cost to respondents other than their time to participate.

Estimated Annualized Burden Hours
Hospitals | Number of respondents | Number of responses per respondent | Hours per response | Response burden (hours)
Current NHDS:
Primary Procedure abstracting | 13 | 250 | 6/60 | 325
Alternate (Census) Procedure (pulling & refiling records) | 41 | 250 | 1/60 | 171
In-House Tape or Printout Hospital (programming) | 29 | 12 | 13/60 | 75
Induction | 10 | 1 | 2 | 20
Sub-total |  |  |  | 591
Redesign HDS Pre-test:
Survey presentation to hospital | 13 | 1 | 1 | 13
Facility questionnaire | 13 | 1 | 4.1 | 53
Sample discharges and obtain data | 13 | 10 | 14/60 | 30
Debrief hospital staff | 13 | 1 | 1 | 13
Quality control | 2 | 25 | 14/60 | 12
Sub-total |  |  |  | 121
Redesign Survey 2010 & 2011:
Survey presentation to hospital | 160 | 1 | 1 | 160
Facility questionnaire | 80 | 1 | 4.1 | 328
Sample discharges and obtain data | 160 | 120 | 14/60 | 4,480
Pre-testing of new data elements | 13 | 120 | 5/60 | 130
Quality control | 3 | 25 | 14/60 | 18
Non-response study | 27 | 1 | 2 | 54
Sub-total |  |  |  | 5,170
Total |  |  |  | 5,882

Dated: December 27, 2007.
Maryam I. Daneshvar,
Acting Reports Clearance Officer, Centers for Disease Control and Prevention.

[FR Doc. E8-51 Filed 1-7-08; 8:45 am]

BILLING CODE 4163-18-P